DEPARTMENT OF STATE

[Public Notice: 9923]

Notice of Public Meeting

SUMMARY: The Advisory Panel to the U.S. Section of the North Pacific Anadromous Fish Commission will meet on May 3, 2017.

DATES: The meeting will take place via teleconference on May 3, 2017, from 4 p.m. to 5 p.m. Eastern time.

Meeting Details: The teleconference call-in number is toll-free 877-336-1831, passcode 6472335, and will have a limited number of lines for members of the public to access from anywhere in the United States. Callers will hear instructions for using the passcode and joining the call after dialing the toll-free number noted. Members of the public wishing to participate in the teleconference must contact the OES officer in charge as noted in the FOR MORE INFORMATION CONTACT section below no later than close of business on Monday, May 1, 2017.

FOR FURTHER INFORMATION CONTACT: Colin Brinkman, Office of Marine Conservation. Telephone (202) 647-1952, email address brinkmancc@state.gov.

SUPPLEMENTARY INFORMATION: In accordance with the requirements of the Federal Advisory Committee Act, notice is given that the Advisory Panel to the U.S. Section of the North Pacific Anadromous Fish Commission (NPAFC) will meet on the date and time noted above. The panel consists of members from the states of Alaska and Washington who represent the broad range of fishing and conservation interests in anadromous and ecologically related species in the North Pacific. Certain members also represent relevant state and regional authorities. The panel was established in 1992 to advise the U.S. Section of the NPAFC on research needs and priorities for anadromous species, such as salmon, and ecologically related species occurring in the high seas of the North Pacific Ocean. The upcoming Panel meeting will focus on a review of the agenda for the 2017 annual meeting of the NPAFC (May 15-19, 2017; Victoria, Canada). Background material is available from the point of contact noted above and by visiting www.npafc.org.

Dave Hogan,
Acting Director, Office of Marine Conservation, Department of State.

[FR Doc. 2017-05796 Filed 3-22-17; 8:45 am]

BILLING CODE 4710-09-P